DEPARTMENT OF JUSTICE

Drug Enforcement Administration

[OMB Number 1117-NEW]

Agency Information Collection Activities: Proposed Collection; Comments Requested: Red Ribbon Week Patch DEA Form 316 and 316A

ACTION: 30-Day Notice of Information Collection under Review.

The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register Volume 76, Number 106, Pages 31988-31989, June 2, 2011, allowing for a 60 day comment period.

The purpose of this notice is to allow for an additional 30 days for public comment until September 1, 2011. This process is conducted in accordance with 5 CFR 1320.10.

If you have comments, especially on the estimated public burden or associated response time, suggestions, or need a copy of the proposed information collection instrument with instructions or additional information, please contact Eric Akers, Chief, Demand Reduction Section, 8701 Morrissette Drive, Springfield, VA 22152; (202) 307-7988.

Written comments concerning this information collection should be sent to the Office of Information and Regulatory Affairs, Office of Management and Budget, Attn: DOJ Desk Officer. The best way to ensure your comments are received is to email them to oira_submission@omb.eop.gov or fax them to (202) 395-7285. All comments should reference the eight-digit OMB number for the collection or the title of the collection. If you have questions concerning the collection, please contact Eric Akers, Chief, Demand Reduction Section, 8701 Morrissette Drive, Springfield, VA 22152, (202) 307-7988, or the DOJ Desk Officer at (202) 395-3176.

Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-00XX:

(1) Type of Information Collection: New collection.

(2) Title of the Form/Collection: Intent to Participate and Red Ribbon Week Patch Activity Report.

(3) Agency form number, if any, and the applicable component of the Department sponsoring the collection:

Form number: DEA Form 316 and DEA Form 316A.

Component: Office of Congressional and Public Affairs, Drug Enforcement Administration, Department of Justice.

(4) Affected public who will be asked or required to respond, as well as a brief abstract:

Primary: Individuals and households.

Other: None.

Abstract: The Drug Enforcement Administration requests the information from Boy/Girl Scout Troop Leaders that express an interest in participating in DEA Red Ribbon Week activities. This information is then used to mail patches to participants indicating completion of the suggested activities.

(5) An estimate of the total number of respondents and the amount of time estimated for an average respondent to respond: It is estimated that 200 persons will complete the DEA-316, Intent to Participate, at 2 minutes per form, for an annual burden of 6.6 hours. It is estimated that 500 persons will complete the DEA-316A, Red Ribbon Week Patch Activity Report, at 10 minutes per form, for an annual burden of 83.3 hours.

(6) An estimate of the total public burden (in hours) associated with the collection: It is estimated that there are 89.9 annual burden hours associated with this collection.

If additional information is required contact: Jerri Murray, Department Clearance Officer, Policy and Planning Staff, Justice Management Division, Department of Justice, Two Constitution Square, 145 N Street, NE., Suite 2E-508, Washington, DC 20530.

Jerri Murray,
Department Clearance Officer, PRA, U.S. Department of Justice.

[FR Doc. 2011-19454 Filed 8-1-11; 8:45 am]

BILLING CODE 4410-09-P